DEPARTMENT OF THE INTERIOR

Minerals Management Service

Agency Information Collection Activities: Submitted for Office of Management and Budget (OMB) Review; Comment Request

AGENCY: Minerals Management Service (MMS), Interior.

ACTION: Notice of extension of an information collection (1010-0106).

SUMMARY: To comply with the Paperwork Reduction Act of 1995 (PRA), we are notifying the public that we are submitting to OMB an information collection request (ICR) to renew approval of the paperwork requirements in the regulations under 30 CFR 253, Oil Spill Financial Responsibility for Offshore Facilities, and related documents. This notice also provides the public a second opportunity to comment on the paperwork burden of these regulatory requirements.

DATES: Submit written comments by November 13, 2007.

ADDRESSES: You may submit comments either by fax (202) 395-6566 or e-mail OIRA_DOCKET@omb.eop.gov directly to the Office of Information and Regulatory Affairs, OMB, Attention: Desk Officer for the Department of the Interior (1010-0106). Mail or hand carry a copy of your comments to the Department of the Interior; Minerals Management Service; Attention: Cheryl Blundon; Mail Stop 4024; 381 Elden Street; Herndon, Virginia 20170-4817. If you wish to e-mail your comments to MMS, the address is: rules.comments@mms.gov. Reference Information Collection 1010-0106 in your subject line and mark your message for return receipt. Include your name and return address in your message text.

FOR FURTHER INFORMATION CONTACT: Cheryl Blundon, Regulations and Standards Branch, (703) 787-1607. You may also contact Cheryl Blundon to obtain a copy, at no cost, of the regulations and forms that require the subject collection of information.

SUPPLEMENTARY INFORMATION: Title: 30 CFR Part 253, Oil Spill Financial Responsibility for Offshore Facilities.

Forms: MMS-1016, MMS-1017, MMS-1018, MMS-1019, MMS-1020, MMS-1021, MMS-1022.

OMB Control Number: 1010-0106.

Abstract: Title I of the Oil Pollution Act of 1990 (OPA) (33 U.S.C. 2701 et seq.), as amended by the Coast Guard Authorization Act of 1996 (Pub. L. 104-324), provides at section 1016 that oil spill financial responsibility (OSFR) for offshore facilities be established and maintained according to methods determined acceptable to the President. Section 1016 of OPA supersedes the offshore facility OSFR provisions of the Outer Continental Shelf Lands Act Amendments of 1978. These authorities and responsibilities are among those delegated to MMS under which we issue regulations governing oil and gas and sulphur operations in the OCS. The information collection discussed in this notice that we are submitting to OMB addresses the regulations at 30 CFR Part 253, Oil Spill Financial Responsibility for Offshore Facilities, forms MMS-1016 through MMS-1022, and any associated supplementary notices to lessees and operators intended to provide clarification, description, or explanation of these regulations.

The MMS uses the information collected under 30 CFR part 253 to verify compliance with section 1016 of OPA. The information is necessary to confirm that applicants can pay for cleanup and damages from oil-spill discharges from covered offshore facilities (COFs). Routinely, the information will be used: (a) To establish eligibility of applicants for an OSFR Certification; and (b) as a reference source for cleanup and damage claims associated with oil-spill discharges from COFs; the names, addresses, and telephone numbers of owners, operators, and guarantors; designated U.S. agents for service of process; and persons to contact. To collect most of the information, MMS developed standard forms. The forms and their purposes are:

Cover Sheet: The forms will be distributed in a package that includes a cover sheet that displays the required OMB Control Number, Expiration Date, and Paperwork Reduction Act (PRA) statement. This cover sheet will accompany the forms as part of a package or will be included with any copies of a particular form that respondents may request.

Form MMS-1016, Designated Applicant Information Certification: The designated applicant uses this form to provide identifying information (company legal name, MMS company number and region, address, contact name and title, telephone and fax numbers) and to summarize the OSFR evidence. This form is required for each new or renewed OSFR certification application.

Form MMS-1017, Designation of Applicant: When there is more than one responsible party for a COF, they must select a designated applicant. Each responsible party, as defined in the regulations, must use this form to notify MMS of the designated applicant. This form is also used to designate the U.S. agent for service of process for the responsible party(ies) should claims from an oil-spill discharge exceed the amount evidenced by the designated applicant; identifies and provides pertinent information about the responsible party(ies); and lists the COFs for which the responsible party is liable for OSFR certification. The form identifies each COF by State or OCS region; lease, permit, right of use and easement or pipeline number; aliquot section; area name; and block number. This form must be submitted with each new OSFR application or with an assignment involving a COF in which there is at least one responsible party who is not the designated applicant for a COF.

Form MMS-1018, Self-Insurance or Indemnity Information: This form is used if the designated applicant is self-insuring or using an indemnity for OSFR evidence. As appropriate, either the designated applicant or the designated applicant's indemnitor completes the form to indicate the amount of OSFR coverage as well as effective and expiration dates. The form also provides pertinent information about the self-insurer or indemnitor and is used to designate a U.S. agent for service of process for claims up to the evidenced amount. This form must be submitted each time new evidence of OSFR is submitted using either self-insurance or an indemnification.

Form MMS-1019, Insurance Certificate: The designated applicant (representing himself as a direct purchaser of insurance) or his insurance agent or broker and the named insurers complete this form to provide OSFR evidence using insurance. The number of forms to be submitted will depend upon the number of layers of insurance to evidence the total amount of OSFR required. One form is required for each layer of insurance. The form provides pertinent information about the insurer(s) and designates a U.S. agent for service of process. This form must be submitted at the beginning of the term of the insurance coverage for the designated applicant's COFs or at the time COFs are added, with the scheduled option selected, to OSFR coverage.

Form MMS-1020, Surety Bond: Each bonding company that issues a surety bond for the designated applicant must complete this form indicating the amount of surety and effective dates. The form provides pertinent information about the bonding company and designates a U.S. agent for service of process for the amount evidenced by the surety bond. This form must be submitted at the beginning of the term of the surety bond for the named designated applicant.

Form MMS-1021, Covered Offshore Facilities: The designated applicant submits this form to identify the COFs for which the OSFR evidence applies. The form identifies each COF by State or OCS region; lease, permit, right of use and easement or pipeline number; aliquot section; area name; block number; and potential worst case oil-spill discharge. This form is required to be submitted with each new or renewed OSFR certification application that includes COFs.

Form MMS-1022, Covered Offshore Facility Changes: During the term of the issued OSFR certification, the designated applicant may submit changes to the current COF listings, including additions, deletions, or changes to the worst case oil-spill discharge for a COF. This form must be submitted when identified changes occur during the term of an OSFR Certification.

Responses are mandatory. No questions of a “sensitive” nature are asked. Respondents are not required to submit confidential or proprietary information. All public requests for information about an applicant's OSFR Certification will be processed according to the Freedom of Information Act (5 U.S.C. 552) procedures.

Frequency: The frequency of submission will vary, but most will respond at least once per year.

Estimated Number and Description of Respondents: We estimate there are approximately 600 respondents. Some will be holders of leases, permits, and rights of use and easement in the OCS and in State coastal waters who will appoint approximately 200 designated applicants. Other respondents will be the designated applicants' insurance agents and brokers, bonding companies, and indemnitors. Some respondents may also be claimants.

Estimated Reporting and Recordkeeping “Hour” Burden: The estimated annual “hour” burden for this information collection is a total of 21,319 hours. The following chart details the individual components and estimated hour burdens. In calculating the burdens, we assumed that respondents perform certain requirements in the normal course of their activities. We consider these to be usual and customary and took that into account in estimating the burden.

Citation 30 CFR 253 | Reporting requirement | Hour burden | Average No. of annual reponses | Annual burden hours
Various sections. | The burdens for all general references to submitting evidence of OSFR are covered under the forms below. |  |  | 0
Applicability and Amount of OSFR
11(a)(1); 40; 41 | Form MMS-1016—Designated Applicant Information Certification. | 1 | 200 | 200
11(a)(1); 40; 41 | Form MMS-1017—Designation of Applicant. | 9 | 600 | 5,400
12 | Request for determination of OSFR applicability. | 2 | 5 | 10
15 | Notify MMS of change in ability to comply. | 1 | 1 | 1
15(f) | Provide claimant written explanation of denial. | 1 | 15 | 15
Subtotal |  |  | 821 | 5,626
Methods for Demonstrating OSFR
21; 22; 23; | Form MMS-1018—Self-Insurance or Indemnity Information. | 1 | 75 | 75
24; 26; 27; 30; 40; 41; 43 |  |  |  |
29; 40;41; 43 | Form MMS-1019—Insurance Certificate. | 120 | 120 | 14,400
31; 40; 41; 43 | Form MMS-1020—Surety Bond. | 24 | 4 | 96
32 | Proposal for alternative method to evidence OSFR (anticipate no proposals, but the regs provide the opportunity). | 120 | 1 | 120
Subtotal |  |  | 200 | 14,691
Requirements for Submitting OSFR Information
40; 41 | Form MMS-1021—Covered Offshore Facilities. | 3 | 200 | 600
40; 41; 42 | Form MMS-1022—Covered Offshore Facility Changes. | 1 | 400 | 400
Subtotal |  |  | 600 | 1,000
Claims for Oil-Spill Removal Costs and Damages
Subpart F | Claims: MMS will not be involved in the claims process. Assessment of burden for claims against the Oil Spill Liability Trust Fund (30 CFR parts 135, 136, 137) should be responsibility of the U.S. Coast Guard. |  |  | 0
60(d) | Claimant request to determine whether a guarantor may be liable for a claim. | 2 | 1 | 2
Subtotal |  |  | 1 | 2
Total Burden |  |  | 1,622 | 21,319

Estimated Reporting and Recordkeeping “Non-Hour Cost” Burden: We have identified no paperwork “non-hour cost” burdens associated with the collection of information.

Public Disclosure Statement: The PRA (44 U.S.C. 3501, et seq.) provides that an agency may not conduct or sponsor a collection of information unless it displays a currently valid OMB control number. Until OMB approves a collection of information, you are not obligated to respond.

Comments: Section 3506(c)(2)(A) of the PRA (44 U.S.C. 3501, et seq.) requires each agency “* * * to provide notice * * * and otherwise consult with members of the public and affected agencies concerning each proposed collection of information * * *” Agencies must specifically solicit comments to: (a) Evaluate whether the proposed collection of information is necessary for the agency to perform its duties, including whether the information is useful; (b) evaluate the accuracy of the agency's estimate of the burden of the proposed collection of information; (c) enhance the quality, usefulness, and clarity of the information to be collected; and (d) minimize the burden on the respondents, including the use of automated collection techniques or other forms of information technology.

To comply with the public consultation process, on January 23, 2007, we published a Federal Register notice (72 FR 2903) announcing that we would submit this ICR to OMB for approval. The notice provided the required 60-day comment period. In addition, § 253.5 and the PRA statement on the cover sheet for the OSFR forms explain that MMS will accept comments at any time on the information collection requirements and burdens of our 30 CFR 253 regulations and associated forms. Section 253.5 and the OSFR forms cover sheet also provide the OMB control number and the address to which to send comments. We received no comments in response to these efforts.

If you wish to comment in response to this notice, you may send your comments to the offices listed under the ADDRESSES section of this notice. OMB has up to 60 days to approve or disapprove the information collection but may respond after 30 days. Therefore, to ensure maximum consideration, OMB should receive public comments by November 13, 2007.

Public Availability of Comments: Before including your address, phone number, e-mail address, or other personal identifying information in your comment, you should be aware that your entire comment—including your personal identifying information—may be made publicly available at any time. While you can ask us in your comment to withhold your personal identifying information from public review, we cannot guarantee that we will be able to do so.

MMS Information Collection Clearance Officer: Arlene Bajusz (202) 208-7744.

Dated: May 31, 2007.
William S. Hauser,
Acting Chief, Office of Offshore Regulatory Programs.

[FR Doc. E7-19993 Filed 10-10-07; 8:45 am]

BILLING CODE 4310-MR-P